DEPARTMENT OF COMMERCE

International Trade Administration

[A-570-053]

Certain Aluminum Foil From the People's Republic of China: Amended Final Results of Antidumping Duty Administrative Review, 2019-2020

AGENCY: Enforcement and Compliance, International Trade Administration, Department of Commerce.

SUMMARY: The Department of Commerce (Commerce) is amending the final results of the administrative review of the antidumping duty order on certain aluminum foil from the People's Republic of China (China) to correct ministerial errors. The period of review (POR) is April 1, 2019, through March 31, 2020.

DATES: Applicable February 17, 2022.

FOR FURTHER INFORMATION CONTACT: Scarlet Jaldin or Michael J. Heaney AD/CVD Operations, Office VI, Enforcement and Compliance, International Trade Administration, U.S. Department of Commerce, 1401 Constitution Avenue NW, Washington, DC 20230; telephone: (202) 482-4275 or (202) 482-4475, respectively.

SUPPLEMENTARY INFORMATION:

Background

On January 7, 2022, Commerce disclosed its calculations for the Final Results ¹ to interested parties.² On January 12, 2022, the petitioners ³ and Jiangsu Zhongji Lamination Materials Co., (HK) Ltd.; Jiangsu Zhongji Lamination Materials Stock Co., Ltd.; Jiangsu Zhongji Lamination Materials Co., Ltd.; and Jiangsu Huafeng Aluminum Industry Co., Ltd. (collectively, Zhongji) submitted allegations of ministerial errors in the Final Results.⁴ On January 19, 2022, Zhongji filed rebuttal ministerial error comments.⁵

¹ See Certain Aluminum Foil from the People's Republic of China: Final Results of Antidumping Duty Administrative Review and Final Determination of No Shipments; 2019-2020, 87 FR 935 (January 7, 2022) (Final Results), and accompanying Issues and Decision Memorandum.

² See Memoranda, “2019-2020 Antidumping Administrative Review of Certain Aluminum Foil from the People's Republic of China—Zhongji Analysis for the Final Results,” dated December 30, 2021 (Zhongji Final Analysis Memorandum); and “Antidumping Duty Administrative Review of Certain Aluminum Foil from the People's Republic of China: Final Surrogate Value Memorandum,” dated December 30, 2021 (Final Surrogate Value Memorandum). Commerce released both the Zhongji Final Analysis Memorandum and the Final Surrogate Value Memorandum to interested parties on January 7, 2022.

³ The petitioners are the Aluminum Association Trade Enforcement Working Group and its individual members.

⁴ See Petitioners' Letter, “2nd Administrative Review of the Antidumping Order on Certain Aluminum Foil from the People's Republic of China—Petitioners' Comments Identifying Ministerial Errors in Final Results,” dated January 12, 2022; see also Zhongji's Letter, “Administrative Review of the Antidumping Duty Order on Certain Aluminum Foil from the People's Republic of China: Ministerial Error Comments,” dated January 12, 2022.

⁵ See Zhongji's Letter, “Administrative Review of the Antidumping Duty Order on Certain Aluminum Foil from the People's Republic of China: Rebuttal Ministerial Error Comments,” dated January 19, 2022.

Legal Framework

Section 751(h) of the Tariff Act of 1930, as amended (the Act), defines a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review . . .”

Ministerial Error

Commerce agrees with the petitioners that Commerce made inadvertent, unintentional errors in the Final Results within the meaning of section 751(h) of the Act and 19 CFR 351.224(f) with respect to its calculation of financial ratios from the financial statement of Alcomet A.B. used in the calculation of normal value for respondent, Zhongji. Accordingly, Commerce determines that, in accordance with section 751(h) of the Act and 19 CFR 351.224(f), it made ministerial errors in the Final Results. However, Commerce determines that it did not make a ministerial error with respect to one of the alleged errors and that correction of the other alleged ministerial error has no effect on the margin.

For a complete discussion of each of the ministerial error allegations, as well as Commerce's analysis, see the accompanying Ministerial Error Memorandum.⁶ The Ministerial Error Memorandum is a public document and is on file electronically via Enforcement and Compliance's Antidumping and Countervailing Duty Centralized Electronic Service System (ACCESS). ACCESS is available to registered users at https://access.trade.gov.

⁶ See Memorandum, “Administrative Review of the Antidumping Duty Order on Certain Aluminum Foil from the People's Republic of China: Ministerial Error Allegation in the Final Results,” dated concurrently with this notice (Ministerial Error Memorandum).

Pursuant to 19 CFR 351.224(e), Commerce is amending the Final Results to reflect the correction of a ministerial error in the calculation of the weighted-average dumping margin assigned to Zhongji in the Final Results, which changes from 62.02 percent to 63.52 percent. Furthermore, we are revising the review-specific, weighted-average dumping margin applicable to the companies not selected for individual examination in this administrative review, which is based entirely on Zhongji's weighted-average dumping margin.⁷

⁷ See Final Results, 86 FR at 936, 937.

Amended Final Results

As a result of correcting the ministerial errors, Commerce determines that the following weighted-average dumping margins exist for the period April 1, 2019, through March 31, 2020:

Exporter | Final weighted-average dumping margin (percent)
Jiangsu Zhongji Lamination Materials Co., (HK) Ltd./Jiangsu Zhongji Lamination Materials Stock Co., Ltd./Jiangsu Zhongji Lamination Materials Co., Ltd./Jiangsu Huafeng Aluminum Industry Co., Ltd | 63.52
Review-Specific Rate Applicable to the Following Companies
Alcha International Holdings Limited | 63.52
Dingsheng Aluminium Industries (Hong Kong) Trading Co., Limited (a.k.a. Dingsheng Aluminium Industries (Hong Kong) Trading Co., Ltd.) | 63.52
Hangzhou Dingsheng Import & Export Co., Ltd. (a.k.a. Hangzhou Dingsheng Import and Export Co., Ltd.) | 63.52
Hunan Suntown Marketing Limited | 63.52
Suntown Technology Group Corporation Limited (a.k.a. Suntown Technology Group Co., Ltd.) | 63.52
Xiamen Xiashun Aluminum Foil Co., Ltd | 63.52
Yinbang Clad Materials Co., Ltd | 63.52

Disclosure

We intend to disclose the calculations performed to parties in this proceeding within five days after publication of these amended final results in the Federal Register, in accordance with 19 CFR 351.224(b).

Assessment Rates

Pursuant to section 751(a)(2)(C) of the Act and 19 CFR 351.212(b), Commerce has determined, and U.S. Customs and Border Protection (CBP) shall assess, antidumping duties on all appropriate entries of subject merchandise in accordance with these amended final results of review. We intend to issue assessment instructions to CBP no earlier than 35 days after the date of publication of these amended final results. If a timely summons is filed at the U.S. Court of International Trade, the assessment instructions will direct CBP not to liquidate relevant entries until the time for parties to file a request for a statutory injunction has expired (i.e., within 90 days of publication).

Where Zhongji reported reliable entered values, we calculated importer- (or customer-) specific ad valorem rates by aggregating the dumping margins calculated for all U.S. sales to each importer (or customer) and dividing this amount by the total entered value of the sales to each importer (or customer).⁸ Where Commerce calculated a weighted-average dumping margin by dividing the total amount of dumping for reviewed sales to that party by the total sales quantity associated with those transactions, Commerce will direct CBP to assess importer- (or customer-) specific assessment rates based on the resulting per-unit rates.⁹ Where an importer- (or customer-) specific ad valorem or per-unit rate is greater than de minimis (i.e., 0.50 percent), Commerce will instruct CBP to collect the appropriate duties at the time of liquidation.¹⁰ Where an importer- (or customer-) specific ad valorem or per-unit rate is zero or de minimis, Commerce will instruct CBP to liquidate appropriate entries without regard to antidumping duties.¹¹

⁸ See 19 CFR 351.212(b)(1).

⁹ Id.

¹⁰ Id.

¹¹ See 19 CFR 351.106(c)(2).

For the non-selected respondents that received a separate rate,¹² we will instruct CBP to apply an antidumping duty assessment rate of 63.52 percent to all entries of subject merchandise that entered the United States during the POR. For the companies that we determined had no reviewable entries of the subject merchandise in this review period, any suspended entries that entered under those exporters' case numbers (i.e., at the exporters' rates) will be liquidated at the China-wide rate.¹³ For all other companies, we will instruct CBP to apply the antidumping duty assessment rate of the China-wide entity to all entries of subject merchandise exported by these companies.¹⁴

¹² These companies are: Alcha International Holdings Limited; Dingsheng Aluminium Industries (Hong Kong) Trading Co., Limited (a.k.a. Dingsheng Aluminium Industries (Hong Kong) Trading Co., Ltd.); Hangzhou Dingsheng Import & Export Co., Ltd. (a.k.a. Hangzhou Dingsheng Import and Export Co., Ltd.); Hunan Suntown Marketing Limited; Suntown Technology Group Corporation Limited (a.k.a. Suntown Technology Group Co., Ltd.); Xiamen Xiashun Aluminum Foil Co., Ltd.; and Yinbang Clad Material Co., Ltd.

¹³ For a full discussion of this practice, see Non-Market Economy Antidumping Proceedings: Assessment of Antidumping Duties, 76 FR 65694 (October 24, 2011).

¹⁴ See Initiation of Antidumping and Countervailing Duty Administrative Reviews, 85 FR 19730, 19731 (April 8, 2020) (“All firms listed below that wish to qualify for separate rate status in the administrative reviews involving NME countries must complete, as appropriate, either a separate rate application or certification, as described below.”).

Cash Deposit Requirements

The following cash deposit requirements will be effective upon publication of the final results of this review for shipments of the subject merchandise from China entered, or withdrawn from warehouse, for consumption on or after the publication date, as provided by section 751(a)(2)(C) of the Act: (1) For subject merchandise exported by the companies listed above that have separate rates, the cash deposit rate will be the rate established in these final results of review for each exporter as listed above; (2) for previously investigated or reviewed Chinese and non-Chinese exporters not listed above that received a separate rate in a prior segment of this proceeding, except for the companies which lost their separate rate eligibility in this review, the cash deposit rate will continue to be the existing exporter-specific rate; (3) for all Chinese exporters of subject merchandise that have not been found to be entitled to a separate rate, or lost their separate rate eligibility in this review, the cash deposit rate will be that for the China-wide entity; ¹⁵ and (4) for all non-Chinese exporters of subject merchandise which have not received their own rate, the cash deposit rate will be the rate applicable to the Chinese exporter that supplied that non-Chinese exporter. These deposit requirements, when imposed, shall remain in effect until further notice.

¹⁵ In this proceeding, the China-wide cash deposit rate of 95.15 percent reflects the dumping margin of 105.80 percent adjusted for subsidy offset. See Certain Aluminum Foil from the People's Republic of China: Amended Final Affirmative Countervailing Duty Determination and Countervailing Duty Order, 83 FR 17362, 17363 (April 19, 2018).

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing this notice in accordance with sections 751(h) and 777(i)(1) of the Act, and 19 CFR 351.224(e).

Dated: February 10, 2022.
Lisa W. Wang,
Assistant Secretary for Enforcement and Compliance.

[FR Doc. 2022-03409 Filed 2-16-22; 8:45 am]

BILLING CODE 3510-DS-P